DEPARTMENT OF TRANSPORTATION

National Highway Traffic Safety Administration

49 CFR Part 571

[Docket No. NHTSA-2011-0174]

RIN 2127-AK88

Federal Motor Vehicle Safety Standards; Theft Protection and Rollaway Prevention

AGENCY: National Highway Traffic Safety Administration (NHTSA), Department of Transportation.

ACTION: Proposed rule; extension of comment period.

SUMMARY: In December 2011, NHTSA published a notice of proposed rulemaking (NPRM) that addressed safety issues arising from increasing variations of keyless ignition controls, and the operation of those controls. We received a petition from the Alliance of Automobile Manufacturers requesting an extension of the comment period. The petitioner argued that additional time was needed to review information that was placed in the docket late in the comment period. After considering the petition, we are extending the comment period by 10 days, from March 12, 2012, to March 22, 2012.

DATES: The comment period for the proposed rule published December 12, 2011, at 76 FR 77183, is extended. Comments must be received on or before March 22, 2012.

ADDRESSES: You may submit comments to the docket number identified in the heading of this document by any of the following methods:

• Federal eRulemaking Portal: go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

Regardless of how you submit your comments, you should mention the docket number of this document.

You may call the Docket Management Facility at 202-366-9826.

Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov or the street address listed above. Follow the online instructions for accessing the dockets.

FOR FURTHER INFORMATION CONTACT: For technical issues: Ms. Gayle Dalrymple, Office of Crash Avoidance Standards, National Highway Traffic Safety Administration, 1200 New Jersey Avenue SE., Washington, DC 20590. Telephone: (202) 366-5559.

For legal issues: Mr. Edward Glancy, Office of the Chief Counsel, National Highway Traffic Safety Administration, 1200 New Jersey Avenue SE., Washington, DC 20590. Telephone: (202) 366-2992.

SUPPLEMENTARY INFORMATION:

On December 12, 2011, NHTSA published in the Federal Register (76 FR 77183) a notice of proposed rulemaking (NPRM) to amend Federal Motor Vehicle Safety Standard (FMVSS) No. 114, Theft Protection and Rollaway Prevention. In the NPRM, the agency addressed safety issues arising from increasing variations of keyless ignition controls, and the operation of those controls. We provided a 90-day comment period for the NPRM.

On February 29, 2012, the Alliance of Automobile Manufacturers (Alliance) sent a letter to NHTSA requesting that certain information, including vehicle owner questionnaires (VOQs) referenced in the NPRM, be placed in the docket. NHTSA sent a memorandum to the docket containing VOQ and crash information and also sent a copy to the Alliance. The memorandum was posted in the docket on March 6, 2012.

In a petition dated March 6, 2012, the Alliance requested a 30-day extension of the comment period. The petitioner argued that it and other interested parties seeking to comment need additional time to locate the VOQs, analyze the VOQs, and evaluate the other, newly docketed information. The Alliance stated that while the requested extension of the comment period may result in a slight delay in the rulemaking process, it contends that allowing commenters to generate comprehensive and responsive comments will significantly assist the agency in its decision making process.

After considering the petition from the Alliance, we have decided to extend the comment period by 10 days. We wish to facilitate the efforts of the petitioner and other interested persons to provide complete comments. We note, however, that since the agency initially provided a relatively long comment period, i.e., 90 days, interested persons have already had considerable time to evaluate the proposal. The VOQs, along with media reports, were cited as examples of the safety problems. We believe that a 10-day extension will ensure that interested persons have sufficient time to analyze the VOQ and crash information. Since the information was posted in the docket on March 6, all interested persons will, with the extension considered, have had more than two weeks to review the information. The Alliance did not provide any detailed information showing why a longer extension, such as the 30 days it requested, would be necessary.

Authority: 49 U.S.C. 322, 30111, 30115, 30166 and 30177; delegation of authority at 49 CFR 1.50.

Issued: March 9, 2012.
Christopher J. Bonanti,
Associate Administrator for Rulemaking.

[FR Doc. 2012-6269 Filed 3-12-12; 4:15 pm]

BILLING CODE 4910-59-P